NUCLEAR REGULATORY COMMISSION

[Docket No. 50-184]

National Institute of Standards and Technology; National Bureau of Standards Reactor; Notice of Availability of the Draft Environmental Impact Statement for License Renewal and Public Comment Period for the License Renewal of National Bureau of Standards Reactor

Notice is hereby given that the U.S. Nuclear Regulatory Commission (NRC, Commission) has published a Draft Environmental Impact Statement (Draft EIS) for License Renewal of the Operating License No. TR-5 for an additional 20-years of operation for the National Bureau of Standards Reactor (NBSR) located on the National Institute of Standards and Technology (NIST) campus in upper Montgomery County, Maryland. Possible alternatives to the proposed action (license renewal) include no action, constructing a new reactor to replace the NBSR capabilities, and using alternative research facilities.

The Draft EIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Number for the Draft EIS is ML070920453. Persons who do not have access to ADAMS, or who encounter problems in accessing the documents located in ADAMS, should contact the NRC's PDR reference staff by telephone at 1-800-397-4209, or 301-415-4737, or by e-mail at pdr@nrc.gov. In addition, the Montgomery County Library, located at 2 Metropolitan Court, Suite 4, Gaithersburg, MD 20878, has agreed to make the Draft EIS available for public inspection.

Any interested party may submit comments on the Draft EIS for consideration by the NRC staff. To be considered, comments on the Draft EIS and the proposed action must be received by September 5, 2007; the NRC staff is able to assure consideration only for comments received on or before this date. Comments received after the due date will be considered only if it is practical to do so. Written comments on the Draft EIS should be sent to: Chief, Rules and Directives Branch, Division of Administrative Services, Office of Administration, Mailstop T-6D59, U.S. Nuclear Regulatory Commission, Washington, DC 20555-0001.

Comments may be hand-delivered to the NRC at 11545 Rockville Pike, Room T-6D59, Rockville, MD, between 7:30 a.m. and 4:15 p.m. on Federal workdays. Electronic comments may be submitted to the NRC by e-mail at NISTDEIS@nrc.gov. All comments received by the Commission, including those made by Federal, State, local agencies, Native American Tribes, or other interested persons, will be made available electronically at the Commission's PDR in Rockville, Maryland, and through ADAMS.

FOR FURTHER INFORMATION CONTACT: Mr. Dennis Beissel, Environmental Branch A, Division of License Renewal, Office of Nuclear Reactor Regulation, U.S. Nuclear Regulatory Commission, Mail Stop O-11F1, Washington, DC 20555-0001. Mr. Beissel may be contacted at the aforementioned telephone number or e-mail address.

Dated at Rockville, Maryland, this 9th day of July, 2007.
For the Nuclear Regulatory Commission.
Eric Benner,
Branch Chief, Environmental Branch A, Division of License Renewal, Office of Nuclear Reactor Regulation.

[FR Doc. E7-13934 Filed 7-17-07; 8:45 am]

BILLING CODE 7590-01-P